DEPARTMENT OF HEALTH AND HUMAN SERVICES

National Institutes of Health

National Institute of Diabetes and Digestive and Kidney Diseases; Amended Notice of Meeting

Notice is hereby given of a change in the meeting of the National Diabetes and Digestive and Kidney Diseases Advisory Council, September 01, 2021, 10:00 a.m. to September 02, 2021, 01:45 p.m., National Institutes of Health, Two Democracy Plaza, 6707 Democracy Boulevard, Bethesda, MD, 20892 which was published in the Federal Register on December 28, 2020, 85 FR 84355.

The meeting notice is amended to change the date of the meeting from September 1-2, 2021 to September 9-10, 2021. The meeting is to the public.

Dated: May 26, 2021.
Miguelina Perez,
Program Analyst, Office of Federal Advisory Committee Policy.

[FR Doc. 2021-11516 Filed 6-1-21; 8:45 am]

BILLING CODE 4140-01-P